DEPARTMENT OF THE INTERIOR

Fish and Wildlife Service

Preparation of a Supplement to the Draft Comprehensive Conservation Plan and Environmental Impact Statement for the Upper Mississippi River National Wildlife and Fish Refuge, Illinois, Iowa, Minnesota, and Wisconsin

AGENCY: Fish and Wildlife Service, Interior.

ACTION: Notice of intent.

SUMMARY: This notice advises the public that the U.S. Fish and Wildlife Service (Service) intends to prepare a Supplement to the Draft Comprehensive Conservation Plan (CCP) and Environmental Impact Statement (EIS) pursuant to the National Environmental Policy Act (NEPA) and its implementing regulations, for the Upper Mississippi River National Wildlife and Fish Refuge (Refuge) located in Illinois, Iowa, Minnesota, and Wisconsin.

The Refuge has decided to draft a new preferred alternative (Alternative E) in the form of a Supplement to the Draft CCP and EIS. All current alternatives in the Draft CCP and EIS (Alternatives A through D) will remain and will be considered in preparing the Final CCP and EIS.

The Service is furnishing this notice in compliance with the National Wildlife Refuge System Administration Act of 1966, as amended (16 U.S.C. 668dd et seq.), and the National Environmental Policy Act of 1969, to advise other agencies and the public of our intentions.

ADDRESSES: Address comments to Refuge Manager, Upper Mississippi River National Wildlife and Fish Refuge, 51 East Fourth Street, Room 101, Winona, MN 55987. Comments may also be submitted electronically to r3planning@fws.gov.

FOR FURTHER INFORMATION CONTACT: Don Hultman at (507) 452-4232.

SUPPLEMENTARY INFORMATION: By Federal law, all lands within the National Wildlife Refuge System are to be managed in accordance with an approved CCP. The CCP guides management decisions and identifies refuge goals, long-range objectives, and strategies for achieving refuge purposes.

The Service issued a Draft CCP and EIS on May 1, 2005, with a 120-day public review and comment period. The comment period ended August 31, 2005. During this time, 21 public information meetings and public workshops were held and attended by 2,900 citizens. More than 2,500 written comments were received.

The public will have an opportunity to review and comment on the Supplement for 60 days following its release. Public open houses will also be held in several communities during the comment period. Notice of availability of the Supplement will be published in the Federal Register. In addition, announcements of Supplement availability and public involvement opportunities will be made through special mailings, media announcements, and on the planning website listed below.

The current Draft CCP and EIS, along with other information on the planning process are available at http://www.fws.gov/midwest/planning/uppermiss/index.html.

We estimate that the Supplement to the Draft CCP and EIS will be available in November 2005.

Dated: September 8, 2005.
Robyn Thorson,
Regional Director, U.S. Fish and Wildlife Service, Fort Snelling, Minnesota.

[FR Doc. 05-20171 Filed 10-6-05; 8:45 am]

BILLING CODE 4310-55-P